DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more individuals that have been placed on OFAC's Specially Designated Nationals and Blocked Persons List based on OFAC's determination that one or more applicable legal criteria were satisfied. All property and interests in property subject to U.S. jurisdiction of these individuals blocked, and U.S. persons are generally prohibited from engaging in transactions with them.

DATES: See SUPPLEMENTARY INFORMATION section for effective date(s).

FOR FURTHER INFORMATION CONTACT: OFAC: Andrea Gacki, Director, tel.: 202-622-2480; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On December 30, 2020 OFAC determined that the property and interests in property subject to U.S. jurisdiction of the following individuals are blocked under the relevant sanctions authority listed below.

Individuals

1. CORNIELLES RUIZ, Lorena Carolina, Coche Miguel Otero Silva Vereda 80, Casa 3, Caracas, Venezuela; DOB 03 Jul 1988; nationality Venezuela; Gender Female; Cedula No. V-18967792 (Venezuela) (individual) [VENEZUELA]. Designated pursuant to section 1(a)(ii)(C) of E.O. 13692, as amended by E.O. 13857, for being a current or former official of the Government of Venezuela.

2. TORRES ESPINOZA, Ramon Antonio, Castillejo Principal del Portico 0301, Guatire, Venezuela; DOB 13 Sep 1968; nationality Venezuela; Gender Male; Cedula No. V-6303894 (Venezuela) (individual) [VENEZUELA]. Designated pursuant to section 1(a)(ii)(C) of E.O. 13692, as amended by E.O. 13857, for being a current or former official of the Government of Venezuela.

Dated: December 30, 2020.
Bradley T. Smith,
Deputy Director, Office of Foreign Assets Control, Department of the Treasury.

[FR Doc. 2020-29153 Filed 1-19-21; 8:45 am]

BILLING CODE 4810-AL-P